Title 3—

The President

Proclamation 8373 of May 6, 2009

World Trade Week, 2009

By the President of the United States of America

A Proclamation

When the world’s consumers fly in a U.S.-manufactured airplane, eat a steak from America’s heartland, watch a Hollywood movie, or visit the Grand Canyon, they are helping to create and maintain good jobs for Americans.

World Trade Week is an opportunity to reaffirm the benefits of trade and to emphasize America’s commitment to a global marketplace that creates good jobs and lifts up American families. The United States and our trading partners stand to gain when trade is open, transparent, rules-based, and fair, showing respect for labor and environmental standards.

The United States is well-positioned to reap the benefits of trade. America is a leader in the global marketplace and ranks at the top of almost every measure of global competitiveness. Our businesses, workers, and farmers remain the most innovative, productive, and adaptable in the world. The United States is also the world’s largest exporter.

Trade is a significant and increasingly important contributor to U.S. economic growth. Exports accounted for 13 percent of U.S. economic activity in 2008, and they support millions of jobs in the United States. In difficult economic times, it is even more important for American industry to take advantage of every opportunity for export-driven growth. That is why I will work to open more markets to U.S. exports, including in such important job growth industries as energy efficiency, clean energy, and health information technology.

Imports can also benefit the United States by increasing consumer choice while lowering prices for millions of working families. In addition, imports can support employment for retailers, distributors, the transportation sector, and domestic manufacturers which rely on global supply chains to make products for both the U.S. and international markets.

We must ensure that the benefits of trade are spread more widely. This can be achieved by training and supporting Americans and ensuring that trade agreements provide the economic opportunities that Americans deserve. Workers who lose their jobs through no fault of their own deserve the chance to be retrained for a new economic environment. That is one of the reasons I signed the American Recovery and Reinvestment Act of 2009 (ARRA), which improves Trade Adjustment Assistance to help families that are struggling now. For the long term, the ARRA also invests in an education system that will prepare our children to compete and succeed in the global economy.

We will negotiate future trade agreements to create opportunities for all Americans. My Administration is committed to building on existing trade agreements and bilateral investment treaties in an open and transparent manner. In consultation with the American people, the Congress, key stakeholders, and our trading partners, I am developing a plan of action for pending free trade agreements. I will also work with our trading partners to advance a strong market-opening agreement for agriculture, industrial goods, and services through the Doha Development Round and through other negotiations. Together, we can build a trading regime that spreads its benefits among Americans and also benefits workers in our partner countries.

Transparency and inclusiveness are central principles we must adhere to as we seek to expand trade. When trade agreements are negotiated in consultation with the American people, the benefits of trade can be understood more broadly. Through open dialogue, the concerns of American and foreign workers can be addressed and the environmental consequences of trade agreements can be identified and mitigated.

With a transparent, free, and fair framework, we can make trade a powerful contributor to the revival of the U.S. and global economies.

NOW, THEREFORE, I, BARACK OBAMA, President of the United States of America, by virtue of the authority vested in me by the Constitution and the laws of the United States, do hereby proclaim May 17 through May 23, 2009, as World Trade Week. I encourage all Americans to observe this week with events, trade shows, and educational programs that celebrate the benefits of trade to our Nation and the global economy.

IN WITNESS WHEREOF, I have hereunto set my hand this sixth day of May, in the year of our Lord two thousand nine, and of the Independence of the United States of America the two hundred and thirty-third.

[FR Doc. E9-11123

Filed 5-8-09; 11:15 am]

Billing code 3195-W9-P